DEPARTMENT OF HOMELAND SECURITY

Coast Guard

33 CFR Part 117

[Docket No. USCG-2016-0497]

Drawbridge Operation Regulation; Mullica River, Green Bank, NJ

AGENCY: Coast Guard, DHS.

ACTION: Notice of deviation from drawbridge regulation.

SUMMARY: The Coast Guard has issued a temporary deviation from the operating schedule that governs the Green Bank Bridge (Green Bank Road/CR563) across the Mullica River, mile 18.0, at Green Bank, NJ. The deviation is necessary to perform bridge repairs. This deviation allows the bridge to remain in the closed-to-navigation position.

DATES: This deviation is effective from 7:30 a.m. on June 20, 2016, through 3:30 p.m. on June 23, 2016.

ADDRESSES: The docket for this deviation, [USCG-2016-0497] is available at http://www.regulations.gov. Type the docket number in the “SEARCH” box and click “SEARCH”. Click on Open Docket Folder on the line associated with this deviation.

FOR FURTHER INFORMATION CONTACT: If you have questions on this temporary deviation, call or email Mr. Hal R. Pitts, Bridge Administration Branch Fifth District, Coast Guard, telephone 757-398-6222, email Hal.R.Pitts@uscg.mil.

SUPPLEMENTARY INFORMATION: Atlantic County, NJ, that owns and operates the Green Bank Bridge (Green Bank Road/CR563), has requested a temporary deviation from the current operating regulations to perform urgent repairs to the bridge operating machinery. The bridge is a bascule draw bridge and has a vertical clearance in the closed position of 5 feet above mean high water.

The current operating schedule is set out in 33 CFR 117.731(b). Under this temporary deviation, the bridge will remain in the closed-to-navigation position from 7:30 a.m. on June 20, 2016, through 3:30 p.m. on June 23, 2016. At all other times the bridge will operate per 33 CFR 117.731(b).

The Mullica River is used by a variety of vessels including small U.S. government vessels, small commercial vessels, and recreational vessels. The Coast Guard has carefully considered the nature and volume of vessel traffic on the waterway in publishing this temporary deviation.

Vessels able to pass through the bridge in the closed position may do so. The bridge will not be able to open for emergencies and there is no immediate alternate route for vessels to pass. The Coast Guard will also inform the users of the waterways through our Local and Broadcast Notices to Mariners of the change in operating schedule for the bridge so that vessel operators can arrange their transit to minimize any impact caused by the temporary deviation.

In accordance with 33 CFR 117.35(e), the drawbridge must return to its regular operating schedule immediately at the end of the effective period of this temporary deviation. This deviation from the operating regulations is authorized under 33 CFR 117.35.

Dated: June 9, 2016.
Hal R. Pitts,
Bridge Program Manager, Fifth Coast Guard District.

[FR Doc. 2016-14064 Filed 6-14-16; 8:45 am]

BILLING CODE 9110-04-P